DEPARTMENT OF COMMERCE

National Oceanic and Atmospheric Administration

[RTID 0648-XE406]

Takes of Marine Mammals Incidental to Specified Activities; Taking Marine Mammals Incidental to the Maintenance and Rehabilitation of the Bellingham Shipping Terminal

AGENCY: National Marine Fisheries Service (NMFS), National Oceanic and Atmospheric Administration (NOAA), Commerce.

ACTION: Notice; issuance of renewal incidental harassment authorization.

SUMMARY: In accordance with the regulations implementing the Marine Mammal Protection Act (MMPA), as amended, notification is hereby given that NMFS has issued a renewal incidental harassment authorization (IHA) to the Port of Bellingham to incidentally harass marine mammals incidental to maintenance and rehabilitation of the Bellingham Shipping Terminal in Bellingham, WA.

DATES: This renewal IHA is effective from November 7, 2024 through November 7, 2025.

ADDRESSES: Electronic copies of the original application, renewal request, and supporting documents (including NMFS Federal Register notices of the initial proposed and final authorizations, and the proposed renewal IHA), as well as a list of the references cited in this document, may be obtained online at: https://www.fisheries.noaa.gov/action/incidental-take-authorization-port-bellinghams-bellingham-shipping-terminal-bellingham. In case of problems accessing these documents, please call the contact listed below.

FOR FURTHER INFORMATION CONTACT: Craig Cockrell, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are promulgated or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). NMFS must also prescribe requirements pertaining to monitoring and reporting of such takings. The definition of key terms such as “take,” “harassment,” and “negligible impact” can be found in the MMPA and NMFS's implementing regulations (see 16 U.S.C. 1362; 50 CFR 216.103).

NMFS' regulations implementing the MMPA at 50 CFR 216.107(e) indicate that IHAs may be renewed for additional periods of time not to exceed 1 year for each reauthorization. In the notice of proposed IHA for the initial IHA, NMFS described the circumstances under which we would consider issuing a renewal for this activity, and requested public comment on a potential renewal under those circumstances. Specifically, on a case-by-case basis, NMFS may issue a one-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice will not be completed by the time the initial IHA expires and a renewal will allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA);

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take); and

• A preliminary monitoring report showing the results of the required monitoring to date and an explanation showing that the monitoring results do not indicate impacts of a scale or nature not previously analyzed or authorized; and

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: https://www.fisheries.noaa.gov/national/marine-mammal-protection/incidental-harassment-authorization-renewals.

History of Request

On November 6, 2023, NMFS issued an IHA to the Port of Bellingham to take marine mammals incidental to the Maintenance and Rehabilitation of the Bellingham Shipping Terminal Project in Bellingham, WA (88 FR 77972, November 11, 2023), effective from November 6, 2023 through November 6, 2024. On September 20, 2024, NMFS received an application for the renewal of that initial IHA. As described in the application for renewal IHA, the activities for which incidental take is requested are nearly identical to those covered in the initial authorization and will not be completed prior to its expiration. Under the initial IHA a number of piles have been removed but no pile installations have occurred. As required, the Port of Bellingham also provided preliminary monitoring data, which confirms that the Port of Bellingham had implemented the required mitigation and monitoring, and also showed that no impacts of a scale or nature not previously analyzed or authorized have occurred as a result of the activities conducted. The notice of the proposed renewal incidental harassment authorization was published on October 4, 2024 (89 FR 80890). There are no changes from the proposed renewal IHA to the final renewal IHA.

Description of the Specified Activities and Anticipated Impacts

The purpose of the project at the Bellingham Shipping Terminal is to repair some of the failing wharf and pier structures of the terminal. As described in detail in the notice for the initial IHA (88 FR 77972, November 11, 2023), in-water construction will include both pile removal and installation of a multiple types of piles with vibratory and impact hammers. A minor change to the activities conducted by the Port of Bellingham was requested in the renewal letter. The initial IHA noted that the Port of Bellingham would limit vibratory pile driving time to 90 minutes per day. The Port of Bellingham will increase the vibratory pile driving time to 360 minutes per day for this renewal period. This change will increase the size of the Level A harassment zones and shutdown zones associated with vibratory pile driving and removal as compared with those analyzed in the initial IHA (see Description of Mitigation, Monitoring and Reporting Measures). The increase to shutdown zones follows the same goals for mitigation articulated in the notice of the initial proposed IHA, i.e., the shutdown zones are equal to the estimated Level A harassment zones, and there is no increase to the estimated take numbers. Therefore, NMFS has determined that this change is minor and that the action is eligible for renewal. The construction is still expected to occur for 87 non-consecutive days. Sounds produced by these activities may result in take, by Level A harassment and Level B harassment, of marine mammals located in Bellingham Bay.

Incidental take resulting from the in-water pile driving and removal in this renewal will be at the same level as authorized in the initial IHA. Four marine mammal species are expected to experience Level B harassment and one of these species additionally has the potential for Level A harassment (see Estimated Take).

All documents related to the initial IHA are available on our website: https://www.fisheries.noaa.gov/action/incidental-take-authorization-port-bellinghams-bellingham-shipping-terminal-bellingham.

Detailed Description of the Activity

A detailed description of the demolition and construction activities for which take is authorized here may be found in the Notices of the Proposed and Final IHAs for the initial authorization. The location, timing, and nature of the activities, including the types of equipment planned for use, are identical to those described in the previous notices.

Description of Marine Mammals

A description of the marine mammals in the area of the activities for which take is authorized, including information on abundance, status, distribution, and hearing, may be found in the notices of the proposed and final IHAs for the initial authorization. NMFS has reviewed the monitoring data from the initial IHA, recent draft Stock Assessment Reports, information on relevant Unusual Mortality Events, and other scientific literature, and determined there is no new information that affects which species or stocks have the potential to be affected or the pertinent information in the Description of the Marine Mammals in the Area of Specified Activities contained in the supporting documents for the initial IHA.

It should be noted that the draft 2023 NMFS' Marine Mammal Stock Assessment Reports (SARs) updated stock abundances for the Eastern Distinct Population Segment for Steller sea lions (Eumetopias jubatus) and harbor seals (Phoca vitulina) (Carretta et al. 2023). For Steller sea lions, the abundance decreased slightly from the initial IHA stock abundance estimate of 43,201 individuals to 36,308 individuals. During the development of the initial IHA the Washington Northern Inland Waters stock of harbor seals had an unknown abundance. Since then, the abundance estimate in the draft 2023 SARs has been updated to 16,451 individuals. None of these population changes impact the findings made in support of the initial IHA. Additional information on all stocks affected by this action is available in the NMFS' U.S. Pacific SARs (available online at: https://www.fisheries.noaa.gov/national/marine-mammal-protection/marine-mammal-stock-assessment-reports).

Potential Effects on Marine Mammals and Their Habitat

A description of the potential effects of the specified activity on marine mammals and their habitat for the activities for which take is authorized may be found in the notices of the proposed and final IHAs for the initial authorization. NMFS has reviewed the monitoring data from the initial IHA, recent draft SARs, information on relevant Unusual Mortality Events, and other scientific literature, and determined that there is no new information that affects our initial analysis of impacts on marine mammals and their habitat.

Estimated Take

A detailed description of the methods and inputs used to estimate take for the specified activity are found in the notices of the proposed and final IHAs for the initial authorization. Specifically, the source levels, days of operation, and marine mammal occurrence data applicable to this authorization remain unchanged from the previously issued IHA. Similarly, the stocks taken, methods of take, and types of take remain unchanged from the previously issued IHA, as do the number of takes, which are indicated below in table 1.

Table 1—Estimated Take by Level A and Level B Harassment, by Species and Stock
Common name | Stock | Stock abundance ᵃ | Level A | Level B | Total take | Take as percentage of stock
Harbor porpoise | Washington Inland Waters | 11,233 | 0 | 261 | 261 | 2.3
Steller sea lion | Eastern U.S. | 36,308 | 0 | 87 | 87 | 0.2
California sea lion | U.S. | 257,606 | 0 | 87 | 87 | < 0.1
Harbor seal | Washington Northern Inland Waters | 16,451 | 264 | 2,029 | 3,050 | 18.5
ᵃ Stock or DPS size is Nbest according to NMFS 2023 Draft Stock Assessment Reports.

Description of Mitigation, Monitoring and Reporting Measures

The mitigation, monitoring, and reporting measures included as requirements in this authorization are nearly identical to those included in the Federal Register notice announcing the issuance of the initial IHA, and the discussion of the least practicable adverse impact included in that document and the notice of the proposed IHA remains accurate.

As noted above, the increase vibratory pile installation time from 90 minutes per day to 360 minutes per day has increased the size of the shutdown zones as noted in table 2 of this section. The applicant and NMFS analyzed the Level A harassment and associated shutdown zones using vibratory pile installation duration of 90 minutes a day, for inputs in the optional User Spreadsheet tool as reported in table 5 of the final IHA Federal Register notice (88 FR 77972, November 14, 2023). In the request for renewal of the initial IHA the applicant requested that NMFS analyze and revise the shutdown zones associated with an increase in vibratory pile driving time to 360 minutes per day. Using the optional User Spreadsheet tool the applicants and NMFS analyzed and revised the shutdown zones based on this expected increase in vibratory pile installation duration. The following standard mitigation measures are required:

• Shutdown zones for Level A harassment as specified in the initial IHA with the exception of vibratory pile installation where the Port of Bellingham expects to drive piles for 360 minutes a day. The updated shutdown zones are shown in table 2;

Table 2—Updated Shutdown Zones During Vibratory Pile Installation
Activity | Shutdown zones (m) ¹: HF cetaceans | Shutdown zones (m) ¹: Phocids | Shutdown zones (m) ¹: Otariids
Vibratory installation (360 minutes) | 75 (30) | 30 (20) | 10 (10)
¹ Shutdown zones shown in parentheticals are what was included in the initial IHA.

• Protected species observers (PSO) observing the monitoring zones established in the initial IHA during all pile installation and removal activities;

• Soft start procedures for impact pile driving consisting of an initial set of strikes from the hammer at reduced energy, with each strike followed by a 30-second waiting period;

• The use of a marine pile-driving energy attenuator (i.e., air bubble curtain system) will be implemented by the Port of Bellingham during impact pile driving of all steel pipe piles; and

• Prior to the start of daily in-water construction activity, or whenever a break in pile driving/removal of 30 minutes or longer occurs, PSOs will observe the shutdown and monitoring zones for a period of 30 minutes. If a marine mammal is observed within the shutdown zone, a soft start cannot proceed until the animal has left the zone or has not been observed for 15 minutes.

Monitoring and reporting requirements associated with this renewal are as follows:

• A minimum of one PSO will be on duty during impact pile driving activities and a minimum of two PSOs during vibratory installation/removal;

• Observers will be required to use approved data forms; and

• A draft report will be submitted to NMFS within 90 days of the completion of marine mammal monitoring. The report will include marine mammal observations pre-activity, during-activity, and post-activity during pile driving days (and associated PSO data sheets).

Comments and Responses

A notice of NMFS' proposal to issue a renewal IHA to the Port of Bellingham was published in the Federal Register on October 4, 2024 (89 FR 80890). That notice either described, or referenced descriptions of, the Port of Bellingham's activity, the marine mammal species that may be affected by the activity, the anticipated effects on marine mammals and their habitat, estimated amount and manner of take, and proposed mitigation, monitoring and reporting measures. NMFS received no public comments.

Determinations

The construction activities are nearly identical to those analyzed for the initial IHA, as are the method of taking and the effects of the action. The higher vibratory drive time does increase the size of the Level A harassment zones and shutdown zones slightly. This increase in zone sizes, however, does not change the anticipated take numbers analyzed in the initial IHA. In analyzing the effects of the activities for the initial IHA, NMFS determined that the Port of Bellingham's activities will have a negligible impact on the affected species or stocks and that the authorized take numbers of each species or stock were small relative to the relevant stocks (e.g., less than one-third of the abundance of all stocks). Although some marine mammal abundances have changed since the initial IHA, none of this new information affects NMFS' determinations supporting issuance of the initial IHAs. The mitigation measures and monitoring and reporting requirements as described above are nearly identical to the initial IHA.

NMFS has concluded that there is no new information suggesting that our analysis or findings should change from those reached for the initial IHA. Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) the Port of Bellingham's activities will not have an unmitigable adverse impact on taking for subsistence purposes as no relevant subsistence uses of marine mammals are implicated by this action, and; (5) appropriate monitoring and reporting requirements are included.

National Environmental Policy Act

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further National Environmental Policy Act review. NMFS has determined that the application of this categorical exclusion remains appropriate for this renewal IHA.

Endangered Species Act

No incidental take of ESA-listed species is authorized or expected to result from this activity. Therefore, NMFS has determined that consultation under section 7 of the ESA is not required for this action.

Renewal

NMFS has issued a renewal IHA to the Port of Bellingham for the take of marine mammals incidental to the Maintenance and Rehabilitation of the Bellingham Shipping Terminal Project in Bellingham, WA from November 7, 2024 to November 7, 2025.

Dated: October 23, 2024.
Kimberly Damon-Randall,
Director, Office of Protected Resources, National Marine Fisheries Service.

[FR Doc. 2024-25021 Filed 10-25-24; 8:45 am]

BILLING CODE 3510-22-P